DEPARTMENT OF COMMERCE

International Trade Administration

[A-570-848]

Freshwater Crawfish Tail Meat From the People's Republic of China: Initiation of Antidumping Duty New Shipper Review

AGENCY: Import Administration, International Trade Administration, Department of Commerce.

DATES: Effective Date: April 26, 2013.

SUMMARY: The Department of Commerce (Department) has determined that a request for a new shipper review (NSR) of the antidumping duty order on freshwater crawfish tail meat from the People's Republic of China (PRC), meets the statutory and regulatory requirements for initiation. The period of review (POR) for this NSR is September 1, 2012, through February 28, 2013.

FOR FURTHER INFORMATION CONTACT: Dmitry Vladimirov, AD/CVD Operations, Office 1, Import Administration, International Trade Administration, U.S. Department of Commerce, 14th Street and Constitution Avenue NW, Washington, DC 20230; Telephone: 202-482-0665.

SUPPLEMENTARY INFORMATION:

Background

The antidumping duty order on freshwater crawfish tail meat from the PRC published in the Federal Register on September 15, 1997.¹ On March 26, 2013, pursuant to section 751(a)(2)(B)(i) of the Tariff Act of 1930, as amended (the Act), we received a timely request for an NSR of the order from Hubei Nature Agriculture Industry Co., Ltd. (Hubei Nature).² Hubei Nature certified that it is both the producer and exporter of the subject merchandise upon which the request was based.³

¹ See Notice of Amendment to Final Determination of Sales at Less Than Fair Value and Antidumping Duty Order: Freshwater Crawfish Tail Meat From the People's Republic of China, 62 FR 48218 (September 15, 1997).

² See Freshwater Crawfish Tail Meat from the People's Republic of China: New Shipper Review Request, dated March 26, 2013.

³ See id., at 1 and Exhibit 2.

Pursuant to section 751(a)(2)(B)(i)(I) of the Act and 19 CFR 351.214(b)(2)(i), Hubei Nature certified that it did not export subject merchandise to the United States during the period of investigation (POI).⁴ In addition, pursuant to section 751(a)(2)(B)(i)(II) of the Act and 19 CFR 351.214(b)(2)(iii)(A), Hubei Nature certified that, since the initiation of the investigation, it has never been affiliated with any exporter or producer who exported subject merchandise to the United States during the POI, including those respondents not individually examined during the POI.⁵ As required by 19 CFR 351.214(b)(2)(iii)(B), Hubei Nature also certified that its export activities were not controlled by the government of the PRC.⁶

⁴ Id., at Exhibit 2.

⁵ Id.

⁶ Id.

In addition to the certifications described above, pursuant to 19 CFR 351.214(b)(2), Hubei Nature submitted documentation establishing the following: (1) The date on which Hubei Nature first shipped subject merchandise for export to the United States; (2) the volume of its first shipment; and (3) the date of its first sale to an unaffiliated customer in the United States.⁷

⁷ Id., at Exhibit 1.

Initiation of New Shipper Review

Pursuant to section 751(a)(2)(B) of the Act and 19 CFR 351.214(d)(1), the Department finds that Hubei Nature's request meets the threshold requirements for initiation of an NSR for the shipment of freshwater crawfish tail meat from the PRC produced and exported by Hubei Nature.⁸

⁸ See Memorandum to the file entitled “Freshwater Crawfish Tail Meat from the People's Republic of China: Initiation Checklist for Antidumping Duty New Shipper Review,” dated concurrently with this notice.

The POR for this NSR is September 1, 2012, through February 28, 2013. See 19 CFR 351.214(g)(1)(i)(A). The Department intends to issue the preliminary determination of this review no later than 180 days from the date of initiation and final results of this review no later than 90 days after the date the preliminary determination is issued. See section 751(a)(2)(B)(iv) of the Act.

It is the Department's usual practice, in cases involving non-market economy countries, to require that a company seeking to establish eligibility for an antidumping duty rate separate from the country-wide rate provide evidence of de jure and de facto absence of government control over the company's export activities. Accordingly, we will issue a questionnaire to Hubei Nature, which will include a section requesting information concerning Hubei Nature's eligibility for a separate rate. The review will proceed if the response provides sufficient indication that Hubei Nature is not subject to either de jure or de facto government control with respect to its export of subject merchandise.

We will instruct U.S. Customs and Border Protection to allow, at the option of the importer, the posting, until the completion of the review, of a bond or security in lieu of a cash deposit for each entry of the subject merchandise from Hubei Nature in accordance with section 751(a)(2)(B)(iii) of the Act and 19 CFR 351.214(e). Because Hubei Nature certified that it produced and exported the subject merchandise, the sale of which is the basis for this NSR request, we will apply the bonding privilege to Hubei Nature only for subject merchandise which Hubei Nature both produced and exported.

To assist in its analysis of the bona fides of Hubei Nature's sales, upon initiation of this NSR, the Department will require Hubei Nature to submit on an ongoing basis complete transaction information concerning any sales of subject merchandise to the United States that were made subsequent to the POR.

Interested parties requiring access to proprietary information in this NSR should submit applications for disclosure under administrative protective order in accordance with 19 CFR 351.305 and 351.306. This initiation and notice are published in accordance with section 751(a)(2)(B) of the Act and 19 CFR 351.214 and 351.221(c)(1)(i).

Dated: April 18, 2013.
Christian Marsh,
Deputy Assistant Secretary for Antidumping and Countervailing Duty Operations.

[FR Doc. 2013-09700 Filed 4-25-13; 8:45 am]

BILLING CODE 3510-DS-P